DEPARTMENT OF DEFENSE

Department of the Navy

Notice of Intent To Prepare a Supplemental Environmental Impact Statement to the Final Environmental Impact Statement and Notice of Request for Public Scoping Comments

AGENCY: Department of the Navy, DoD.

ACTION: Notice.

SUMMARY: Pursuant to section 102(2)(c) of the National Environmental Policy Act (NEPA) of 1969, and the regulations implemented by the Council on Environmental Quality (40 CFR parts 1500 through 1508), the Department of the Navy (DON) announces its intent to prepare a Supplemental Environmental Impact Statement (SEIS). This SEIS supplements the Navy's 1999 Final Environmental Impact Statement (FEIS), “Developing Home Port Facilities for Three NIMITZ-Class Aircraft Carriers in Support of the U.S. Pacific Fleet,” as authorized by the Record of Decision (ROD) dated January 28, 2000 and published in the Federal Register on February 8, 2000 (65 FR 6181). The limited purpose of this SEIS is to supplement the traffic analysis contained in the 1999 FEIS, to assess potential new information, validate impacts to traffic and to analyze the effectiveness of existing traffic mitigation measures implemented per the 2000 ROD when three CVNs home ported at Naval Air Station North Island (NASNI), California are simultaneously in port.

Completion of the SEIS is necessary under 40 CFR 1502.9 to assess potential new information and to validate impacts to traffic during infrequent periods when three CVNs home ported at NASNI are simultaneously in port. The SEIS will analyze the effectiveness of existing traffic mitigation measures implemented per the 2000 ROD under these conditions. The SEIS will evaluate impacts such as changes in local traffic conditions, changes in personnel loading and potential changes in CVN operational deployment and maintenance schedules that could affect the average number of days three carriers are simultaneously in port. The SEIS will also evaluate the effects of traffic mitigation measures implemented pursuant to the 2000 ROD. Past, present and reasonably foreseeable future regional actions impacting traffic will be examined from a cumulative impacts perspective.

In addition, the SEIS will address infrastructure improvements for Berth LIMA, which include utilities upgrades previously analyzed under the 1999 FEIS and newly defined site improvements and other minor alterations to existing infrastructure. Utilities upgrades include: repairs and upgrades to electrical power, communications and information systems, security lighting, fire protection, steam, compressed air, potable water, wastewater and fueling systems. Site improvements and other alterations include: Demolition of existing fenders, moorings, and pier pavement; installation of new fender pile system (with 200-300 fender piles) and mooring fittings; construction of Anti-Terrorism/Force Protection (AT/FP) features (watch tower, guard kiosk, fencing and surveillance equipment); and demolition, repair and paving of the wharf, sidewalks, curbing, storm water drainage features and vehicle parking areas; and landscaping. It is anticipated that the construction of infrastructure improvements to Berth LIMA will take approximately one year to accomplish.

Public input is requested to ensure the scope of the SEIS analysis incorporates public concerns and affords the public an input in the decision making process.

DATES AND ADDRESSES: The agency must receive comments on or before November 19, 2007. Comments may be submitted by mail or electronically through the project Web site. Comments may be mailed to the following address: Naval Facilities Engineering Command Southwest, Attention: Ms. Ann Rosenberry (Code OPME.AR), 2730 McKean St., Building 291, San Diego, CA 92136. Comments may be submitted electronically at the project Web site at: http://www.nimitzcarriersseis.com.

FOR FURTHER INFORMATION CONTACT: Ms. Ann Rosenberry, Naval Facilities Engineering Command Southwest, 2730 McKean St., Building 291, San Diego, CA 92136; telephone: 619-556-7368, facsimile: 619-556-0195.

SUPPLEMENTARY INFORMATION: The Navy is initiating the scoping process to identify community concerns and local issues to be addressed in the SEIS. Federal agencies, State agencies, local agencies, and interested persons are encouraged to provide comments to the Navy to identify specific issues or topics of environmental concern that should be addressed in the SEIS. Written comments must be postmarked within thirty days from the publication of this notice in the Federal Register. Notices announcing the intent to prepare a SEIS will also appear in local newspapers in both English and Spanish. As the SEIS process progresses, the public may obtain updates by logging on to http://www.nimitzcarriersseis.com which is linked to the Commander, Naval Air Force Pacific Public Affairs Web site found at http://www.cnaf.navy.mil.

Dated: October 11, 2007.
T.M. Cruz,
Lieutenant, Judge Advocate General's Corps, U.S. Navy, Federal Register Liaison Officer.

[FR Doc. E7-20577 Filed 10-17-07; 8:45 am]

BILLING CODE 3810-FF-P